DEPARTMENT OF TRANSPORTATION

Federal Aviation Administration

Notice of Opportunity for Public Comment on Federally Obligated Property Release at Warren County Memorial Airport, McMinnville, Tennessee

AGENCY: Federal Aviation Administration (FAA), DOT.

ACTION: Notice.

SUMMARY: Under the provisions of Title 49, U.S.C. Section 47153(c), notice is being given that the FAA is considering a request from the Warren County Office of County Executive/Warren County Airport Commission to waive the requirement that a 0.40-acre parcel of federally obligated property, located at Warren County Memorial Airport, be used for aeronautical purposes.

DATES: Comments must be received on or before July 28, 2004.

ADDRESSES: Comments on this notice may be mailed or delivered in triplicate to the FAA at the following address: Memphis Airports District Office, 2862 Business Park Drive, Bldg. G, Memphis, TN 38118-1555.

In addition, one copy of any comments submitted to the FAA must be mailed or delivered to Kenneth Rogers, Warren County Executive, at the following address: Warren County Courthouse, Suite 1, 201 Locust Street, McMinnville, TN 37110.

FOR FURTHER INFORMATION CONTACT: Peggy S. Kelley, Program Manager, Memphis Airports District Office, 2862 Business Park Drive, Building G, Memphis, TN 38118-1555, (901) 322-8186. The application may be reviewed in person at this same location.

SUPPLEMENTARY INFORMATION: The FAA is reviewing a request by Warren County Office of County Executive/ Warren County Airport Commission to release a small strip of land, approximately 20 feet wide and 870 feet long, containing 0.40 acres of federally obligated property at Warren County Memorial Airport. The property will be exchanged for an adjacent tract that is in the Object Free Area for Runway 05/23. The land to be released is along a portion of the existing property line on the northwest side of the airfield. Release and exchange of the property will allow the airport owner to meet current Federal Aviation design standards for Runway 05/23 and construct a security fence to enhance the security of the airfield.

Any person may inspect the request in person at the FAA office listed above under FOR FURTHER INFORMATION CONTACT.

In addition, any person may, upon request, inspect the request, notice and other documents germane to the request in person at the Warren County Regional Airport Authority.

Issued in Memphis, Tennessee on June 18, 2004.
LaVerne F. Reid,
Manager, Memphis Airports District Office, Southern Region.

[FR Doc. 04-14521 Filed 6-25-04; 8:45 am]

BILLING CODE 4910-13-M